DEPARTMENT OF LABOR

Employment and Training Administration

[TA-W-54,652]

Tanya Creations, Inc., East Providence, RI; Notice of Termination of Investigation

Pursuant to section 221 of the Trade Act of 1974, as amended, an investigation was initiated on April 2, 2004, in response to a petition filed by a company official on behalf of workers at Tanya Creations, Inc., East Providence, Rhode Island.

The petitioner has requested that the petition be withdrawn. Consequently, the investigation has been terminated.

Signed in Washington, DC this 23rd day of April, 2004.
Linda G. Poole,
Certifying Officer, Division of Trade Adjustment Assistance.

[FR Doc. E4-1053 Filed 5-7-04; 8:45 am]

BILLING CODE 4510-13-P